DEPARTMENT OF THE INTERIOR

Bureau of Land Management

[UT-030-1020-00]

Notice of Intent To Amend Plan for the Grand Staircase-Escalante National Monuments, et al.

AGENCY: Bureau of Land Management, Interior.

ACTION: Notice of intent to prepare a plan amendment for the Grand Staircase-Escalante National Monument Management Plan, the Escalante Management Framework Plan, and the Paria Management Framework Plan with associated Environmental Assessments (EA). The planning area is located in southern Utah.

SUMMARY: Pursuant to the Bureau of Land Management (BLM) Planning Regulations (43 CFR 1600) this notice advises the public that the BLM, Grand Staircase-Escalante National Monument (GSENM) is considering amending the GSENM Management Plan, the Paria Management Framework Plan to reallocate a portion of the Willow Gulch allotment, and the Escalante Management Framework Plan to reallocate the Clark Bench grazing allotment. These amendments will be addressed through two separate EAs. This notice initiates a 30-day comment period on the planning criteria and draft amendments/EAs.

ADDRESSES: For further information, to review the planning documents and to submit written comments, contact: Monument Manager, Grand Staircase-Escalante National Monument, 180 West 300 North, Kanab, Utah, 84741, (435-644-4300). Planning documents and letters received, including names and street addresses of respondents, will be available for public review at the GSENM Office in Kanab, Utah during regular business hours (8 a.m. to 5 p.m.) Monday through Friday, except holidays. Individual respondents may request confidentiality. If you wish to withhold your name or street address from public review and disclosure under the Freedom of Information Act, you must state this prominently at the beginning of your written comment. Such requests will be honored to the extent allowed by law. All submissions from organizations or businesses, and from individuals identifying themselves as representatives or officials of organizations or businesses, will be made available for public inspection in their entirety. If you are not currently on our mailing list and wish to receive a copy of the planning documents, please send your name and address to the address listed above.

SUPPLEMENTARY INFORMATION: The livestock grazing permittee has voluntarily relinquished all of the existing grazing privileges on the Clark Bench allotment. The Paria Management Plan amendment considers a proposal to close the Clark Bench allotment to grazing and to re-allocate the relinquished animal unit months (AUMs) for wildlife, watershed conservation, and riparian values. One livestock grazing permittee has voluntarily relinquished all of his existing grazing privileges on the Willow Gulch allotment. Grazing privileges held by the other livestock grazing permittee on the Willow Gulch allotment will not be affected. A proposal to re-allocate the relinquished AUMs on the Willow Gulch allotment for wildlife, watershed conservation, and riparian values will be considered through the Escalante Management Framework Plan amendment. The EAs will be prepared by an interdisciplinary team to analyze the impacts of these proposals and alternatives.

The BLM has identified the following planning criteria, which will guide development of the amendments:

1. These plan amendments/EAs are initiated in response to the voluntary relinquishment of the sole grazing preference/permit for the West Clark Bench grazing allotment. Analysis and decisions in the plan amendment/EA apply only to that allotment.

2. These plan amendments/EAs will be completed in compliance with the Federal Land Policy and Management Act, the National Environmental Policy Act, and all other applicable laws.

3. These plan amendments/EAs will be developed using an interdisciplinary approach (e.g., a team approach using a variety of skills and perspectives such as rangeland management specialists, riparian specialists, etc.), with input from interested public, the State of Utah, local governments, and other Federal agencies and entities.

4. Decisions in the plan amendments/EAs will provide for the balance of long-term sustainability with short-term uses.

5. These plan amendments/EAs will incorporate and comply with the Fundamentals of Rangeland Health and Standards and Guidelines for Grazing Administration.

Robert A. Bennett,
Assistant Utah State Director.

[FR Doc. 01-29729 Filed 11-29-01; 8:45 am]

BILLING CODE 4310-DQ-P